NATIONAL SCIENCE FOUNDATION

Advisory Committee for Mathematical and Physical Sciences; Notice of Meeting

In accordance with the Federal Advisory Committee Act (Pub. L. 92-463, as amended), the National Science Foundation (NSF) announces the following meeting:

Name and Committee Code: Advisory Committee for Mathematical and Physical Sciences (#66).

Date and Time: March 29, 2022; 12:00 p.m. to 5:00 p.m.

March 30, 2022: 12:05 p.m. to 4:45 p.m.

Place: NSF, 2415 Eisenhower Avenue, Alexandria, VA 22314 (Virtual attendance only). To attend the virtual meeting, please send your request for the virtual meeting link to Michelle Bushey at the following email address: mbushey@nsf.gov.

Type of Meeting: Open.

Contact Person: Leighann Martin, National Science Foundation, 2415 Eisenhower Avenue, Room C 9000, Alexandria, Virginia 22314; Telephone: 703/292-4659.

Summary of Minutes: Minutes and meeting materials will be available on the MPS Advisory Committee website at http://www.nsf.gov/mps/advisory.jsp or can be obtained from the contact person listed above.

Purpose of Meeting: To provide advice, recommendations and counsel on major goals and policies pertaining to MPS programs and activities.

Agenda

Tuesday, March 29, 2022

• Call to Order and Official Opening of the Meeting

• Approval of Prior Meeting Minutes—Catherine Hunt, MPSAC Chair

• MPS Update by Assistant Director

• Science Highlight

• MPS and the Living World Subcommittee Report—AC Vote

• MPS Facilities Portfolio Overview and Discussion

• MPS AC Subcomittee on Facilities and Infrastructrure—AC Vote

• MPS AC Subcommittee on Facilities and Infrastructure—Charge 2

• CEOSE Updates

• Preparation for discussion with NSF Director and COO

• Closing remarks and adjourn day 1

Wednesday. March 30, 2022

• Welcome and overview of agenda

• Science Highlight

• Environmental Research and Education (ERE) AC Outbrief and Panel

• Measuring MPS Impact

• Preparation for discussion with NSF Director and COO

• Meeting and discussion with NSF Director and COO

• Closing remarks and adjourn

Dated: February 25, 2022.
Crystal Robinson,
Committee Management Officer.

[FR Doc. 2022-04414 Filed 3-2-22; 8:45 am]

BILLING CODE 7555-01-P